DEPARTMENT OF HEALTH AND HUMAN SERVICES

Meetings of the Presidential Advisory Council on Combating Antibiotic-Resistant Bacteria

AGENCY: Department of Health and Human Services, Office of the Secretary, Office of the Assistant Secretary for Health.

ACTION: Notice.

SUMMARY: As stipulated by the Federal Advisory Committee Act, the Department of Health and Human Services (HHS) is hereby giving notice that a meeting is scheduled to be held for the Presidential Advisory Council on Combating Antibiotic-Resistant Bacteria (PACCARB). The meeting will be open to the public via Zoom and teleconference; a pre-registered public comment session will be held during the meeting. Pre-registration is required for members of the public who wish to present their comments at the meeting via Zoom/teleconference. Individuals who wish to send in their written public comment should send an email to CARB@hhs.gov. Registration information is available on the website http://www.hhs.gov/paccarb and must be completed by February 25, 2022 for the March 2, 2022 Public Meeting. Additional information about registering for the meeting and providing public comment can be obtained at http://www.hhs.gov/paccarb on the Upcoming Meetings page.

DATES: The meeting is scheduled to be held on March 2, 2022, from 10:00 a.m. to 4:00 p.m. ET (times are tentative and subject to change). The confirmed times and agenda items for the meeting will be posted on the website for the PACCARB at http://www.hhs.gov/paccarb when this information becomes available. Pre-registration for attending the meeting is strongly suggested and should be completed no later than February 25, 2022.

ADDRESSES: Instructions regarding attending this meeting virtually will be posted at least one week prior to the meeting at: http://www.hhs.gov/paccarb.

FOR FURTHER INFORMATION CONTACT: Jomana Musmar, M.S., Ph.D., Designated Federal Officer, Presidential Advisory Council on Combating Antibiotic-Resistant Bacteria, Office of the Assistant Secretary for Health, U.S. Department of Health and Human Services, Room L616, Switzer Building, 330 C St. SW, Washington, DC 20024. Phone: 202-746-1512; Email: CARB@hhs.gov.

SUPPLEMENTARY INFORMATION: The Presidential Advisory Council on Combating Antibiotic-Resistant Bacteria (PACCARB), established by Executive Order 13676, is continued by Section 505 of Public Law 116-22, the Pandemic and All-Hazards Preparedness and Advancing Innovation Act of 2019 (PAHPAIA). Activities and duties of the Advisory Council are governed by the provisions of the Federal Advisory Committee Act (FACA), Public Law 92-463, as amended (5 U.S.C. App.), which sets forth standards for the formation and use of federal advisory committees.

The PACCARB shall advise and provide information and recommendations to the Secretary regarding programs and policies intended to reduce or combat antibiotic-resistant bacteria that may present a public health threat and improve capabilities to prevent, diagnose, mitigate, or treat such resistance. The PACCARB shall function solely for advisory purposes.

Such advice, information, and recommendations may be related to improving: The effectiveness of antibiotics; research and advanced research on, and the development of, improved and innovative methods for combating or reducing antibiotic resistance, including new treatments, rapid point-of-care diagnostics, alternatives to antibiotics, including alternatives to animal antibiotics, and antimicrobial stewardship activities; surveillance of antibiotic-resistant bacterial infections, including publicly available and up-to-date information on resistance to antibiotics; education for health care providers and the public with respect to up-to-date information on antibiotic resistance and ways to reduce or combat such resistance to antibiotics related to humans and animals; methods to prevent or reduce the transmission of antibiotic-resistant bacterial infections; including stewardship programs; and coordination with respect to international efforts in order to inform and advance the United States capabilities to combat antibiotic resistance.

The March 2, 2022, public meeting will be dedicated to providing a One Health retrospective on past novel viral outbreaks and how they impacted antimicrobial use, resistance, and stewardship. The meeting agenda will be posted on the PACCARB website at http://www.hhs.gov/paccarb when it has been finalized. All agenda items are tentative and subject to change. Instructions regarding attending the meeting virtually will be posted at least one week prior to the meeting at: http://www.hhs.gov/paccarb.

Members of the public will have the opportunity to provide comments live during the March meeting by pre-registering online at http://www.hhs.gov/paccarb. Pre-registration is required for participation in this session with limited spots available. Written public comments can also be emailed to CARB@hhs.gov by midnight February 25, 2022, and should be limited to no more than one page. All public comments received prior to February 25, 2022, will be provided to the Advisory Council members. Additionally, companies and/or organizations involved in combating antibiotic resistance have an opportunity to present their work to members of the Advisory Council live during an Innovation Spotlight. Pre-registration is required for participation, with limited spots available. All information regarding this session can also be found online at http://www.hhs.gov/paccarb.

Dated: January 27, 2022.
Jomana F. Musmar,
Designated Federal Officer, Presidential Advisory Council on Combating Antibiotic-Resistant Bacteria, Office of the Assistant Secretary for Health.

[FR Doc. 2022-02291 Filed 2-2-22; 8:45 am]

BILLING CODE 4150-44-P